DEPARTMENT OF DEFENSE

GENERAL SERVICES ADMINISTRATION

NATIONAL AERONAUTICS AND SPACE ADMINISTRATION

OFFICE OF FEDERAL PROCUREMENT POLICY

48 CFR Parts 1, 2, 12, 22, and 52

[FAR Case 2023-021; Docket No. FAR-2023-0021; Sequence No. 1]

RIN 9000-AO69

Office of Federal Procurement Policy; Federal Acquisition Regulation: Pay Equity and Transparency in Federal Contracting

AGENCY: Department of Defense (DoD), General Services Administration (GSA), National Aeronautics and Space Administration (NASA), and Office of Federal Procurement Policy (OFPP).

ACTION: Proposed rule; withdrawal.

SUMMARY: DoD, GSA, and NASA are withdrawing the proposed rule to amend the Federal Acquisition Regulation (FAR) titled: Pay Equity and Transparency in Federal Contracting. The Administrator for Federal Procurement Policy (OFPP Administrator) is simultaneously withdrawing a proposed Government-wide policy, upon which the proposed rule was based.

DATES: The proposed rule published on January 30, 2024, at 89 FR 5843 is withdrawn as of January 8, 2025.

FOR FURTHER INFORMATION CONTACT: FAR Policy, at 202-969-4075 or farpolicy@gsa.gov. Please cite “FAR Case 2023-021”.

SUPPLEMENTARY INFORMATION: On January 30, 2024, the OFPP Administrator issued a proposed Government-wide procurement policy that would: (1) prohibit contractors and subcontractors from seeking and considering information about job applicants' compensation history when making employment decisions about personnel working on or in connection with a Government contract; and (2) require contractors and subcontractors to disclose, in all advertisements for job openings involving work on or in connection with a Government contract placed by or on behalf of the contractor or subcontractor, the compensation to be offered to the hired applicant, for any position to perform work on or in connection with the contract. On the same date, DoD, GSA, and NASA published proposed amendments to the FAR to reflect the proposed OFPP policy.

The OFPP Administrator's proposed policy reflected a preliminary determination that compensation history bans and compensation disclosure requirements (the latter are also collectively referred to as pay transparency), both together and separately, would promote economy, efficiency, and effectiveness in the procurement of property and services by the Federal Government. The proposed rule cited to a range of studies in support of this conclusion, many analyzing practices by States and localities.

In light of the limited time remaining in the current Administration, OFPP, DoD, GSA, and NASA have decided to withdraw the proposed policy and rule and focus their attention on other priorities, including directives in recent National Defense Authorization Acts. This will also help ensure that the agencies can benefit from the latest information on this topic if they return to it in the future. Accordingly, for these independently sufficient reasons, the proposed policy and rule published on January 30, 2024, at 89 FR 5843, are withdrawn and FAR Case 2023-021 is closed.

List of Subjects in 48 CFR Parts 1, 2, 12, 22, and 52

Government procurement.

Janet Fry,
Director, Federal Acquisition Policy Division, Office of Governmentwide Acquisition Policy, Office of Acquisition Policy, Office of Governmentwide Policy.

[FR Doc. 2025-00118 Filed 1-7-25; 8:45 am]

BILLING CODE 6820-EP-P